DEPARTMENT OF COMMERCE

Foreign-Trade Zones Board

[Order No. 1442]

Expansion of Foreign-Trade Zone 101, Clinton County, Ohio

Pursuant to its authority under the Foreign-Trade Zones Act of June 18, 1934, as amended (19 U.S.C. 81a-81u), the Foreign-Trade Zones Board (the Board) adopts the following Order:

Whereas, Airborne FTZ, Inc., grantee of Foreign-Trade Zone 101, submitted an application to the Board for authority to expand FTZ 101 to include a site in Fayette County, Ohio, within the Dayton Customs and Border Protection port of entry (FTZ Docket 27-2005, filed June 3, 2005);

Whereas, notice inviting public comment has been given in the Federal Register (70 FR 34445-34446, June 14, 2005);

Whereas, the Board adopts the findings and recommendations of the examiner's report, and finds that the requirements of the FTZ Act and Board's regulations are satisfied, and that approval of the application is in the public interest;

Now, therefore, the Board hereby orders:

The application to expand FTZ 101 is approved, subject to the FTZ Act and the Board's regulations, including § 400.28.

Signed at Washington, DC, this 5th day of April 2006.
David M. Spooner,
Assistant Secretary of Commerce for Import Administration, Alternate Chairman, Foreign-Trade Zones Board.
Attest:
Dennis Puccinelli,
Executive Secretary.

[FR Doc. E6-5681 Filed 4-14-06; 8:45 am]

Billing Code: 3510-DS-S